DEPARTMENT OF ENERGY

Federal Energy Regulatory Commission

Combined Notice of Filings

October 22, 2008.

Take notice that the Commission has received the following Natural Gas Pipeline Rate and Refund Report filings:

Docket Numbers: RP91-203-076, RP92-132-064.

Applicants: Tennessee Gas Pipeline Company.

Description: Tennessee Gas Pipeline Company submits a report regarding the status of Tennessee's discussions with its customers etc re over-collections pursuant to the 5/15/95 Settlement.

Filed Date: 10/01/2008.

Accession Number: 20081021-0059.

Comment Date: 5 p.m. Eastern Time on Tuesday, October 28, 2008.

Docket Numbers: RP96-200-198.

Applicants: CenterPoint Energy Gas Transmission Company.

Description: CenterPoint Energy Gas Transmission Company submits a notice of the termination of negotiated rate agreement with Anadarko Energy Services Company, effective 10/31/08.

Filed Date: 10/21/2008.

Accession Number: 20081022-0323.

Comment Date: 5 p.m. Eastern Time on Monday, November 3, 2008.

Docket Numbers: RP96-272-083.

Applicants: Northern Natural Gas Company.

Description: Northern Natural Gas Company submits 13 Revised Sheet 66B.01 et al. to FERC Gas Tariff, Fifth Revised Volume 1 and a non-conforming and negotiated rate service agreement with Chevron USA, Inc.

Filed Date: 10/17/2008.

Accession Number: 20081021-0058.

Comment Date: 5 p.m. Eastern Time on Wednesday, October 29, 2008.

Docket Numbers: RP99-176-169.

Applicants: Natural Gas Pipeline Co of America LLC.

Description: Natural Gas Pipeline Company of America LLC. submits First Revised Sheet 34C to FERC Gas Tariff, Seventh Revised Volume 1, to be effective 11/1/08.

Filed Date: 10/21/2008.

Accession Number: 20081022-0324.

Comment Date: 5 p.m. Eastern Time on Monday, November 3, 2008.

Docket Numbers: RP01-205-019.

Applicants: Southern Natural Gas Company.

Description: Southern Natural Gas Company submits Eighth Revised Sheet 23A to FERC Gas Tariff, Seventh Revised Volume 1, to be effective 11/1/08.

Filed Date: 10/20/2008.

Accession Number: 20081021-0328.

Comment Date: 5 p.m. Eastern Time on Monday, November 3, 2008.

Docket Numbers: RP07-690-004.

Applicants: Southern Natural Gas Company.

Description: Southern Natural Gas Company submits Sixth Revised Sheet 123 to FERC Gas Tariff, Seventh Revised Volume 1, to be effective 11/1/08.

Filed Date: 10/20/2008.

Accession Number: 20081021-0327.

Comment Date: 5 p.m. Eastern Time on Monday, November 3, 2008.

Docket Numbers: RP09-26-000.

Applicants: Williston Basin Interstate Pipeline Company.

Description: Williston Basin Interstate Pipeline Company submits Fifteenth Revised Sheet 374 et al. to FERC Gas Tariff, Second Revised Volume 1, to be effective 10/20/08.

Filed Date: 10/20/2008.

Accession Number: 20081021-0127.

Comment Date: 5 p.m. Eastern Time on Monday, November 3, 2008.

Docket Numbers: RP09-27-000.

Applicants: National Fuel Gas Supply Corporation.

Description: National Fuel Gas Supply Corporation submits First Revised Sheet 455 et al. to FERC Gas Tariff, Fourth Revised Volume 1, to effective 10/21/08.

Filed Date: 10/21/2008.

Accession Number: 20081022-0322.

Comment Date: 5 p.m. Eastern Time on Monday, November 3, 2008.

Docket Numbers: RP09-28-000.

Applicants: Northern Natural Gas Company.

Description: Petition of Northern Natural Gas Company for limited waiver of tariff provisions.

Filed Date: 10/21/2008.

Accession Number: 20081022-0321.

Comment Date: 5 p.m. Eastern Time on Monday, November 3, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-25605 Filed 10-27-08; 8:45 am]

BILLING CODE 6717-01-P